DEPARTMENT OF HOMELAND SECURITY

Coast Guard

[Docket No. USCG-2012-1066]

Collection of Information Under Review by Office of Management and Budget

AGENCY: Coast Guard, DHS.

ACTION: Thirty-day notice requesting comments.

SUMMARY: In compliance with the Paperwork Reduction Act of 1995, the U.S. Coast Guard is forwarding an Information Collection Request (ICR), abstracted below, to the Office of Management and Budget (OMB), Office of Information and Regulatory Affairs (OIRA), requesting approval for the following collection of information: 1625-new, Various International Agreement Certificates and Documents. Our ICR describes the information we seek to collect from the public. Review and comments by OIRA ensure we only impose paperwork burdens commensurate with our performance of duties.

DATES: Comments must reach the Coast Guard and OIRA on or before June 27, 2013.

ADDRESSES: You may submit comments identified by Coast Guard docket number [USCG-2012-1066] to the Docket Management Facility (DMF) at the U.S. Department of Transportation (DOT) and/or to OIRA. To avoid duplicate submissions, please use only one of the following means:

(1) Online: (a) To Coast Guard docket at http://www.regulation.gov. (b) To OIRA by email via: OIRA-submission@omb.eop.gov.

(2) Mail: (a) DMF (M-30), DOT, West Building Ground Floor, Room W12-140, 1200 New Jersey Avenue SE., Washington, DC 20590-0001. (b) To OIRA, 725 17th Street NW., Washington, DC 20503, attention Desk Officer for the Coast Guard.

(3) Hand Delivery: To DMF address above, between 9 a.m. and 5 p.m., Monday through Friday, except Federal holidays. The telephone number is 202-366-9329.

(4) Fax: (a) To DMF, 202-493-2251. (b) To OIRA at 202-395-6566. To ensure your comments are received in a timely manner, mark the fax, attention Desk Officer for the Coast Guard.

The DMF maintains the public docket for this Notice. Comments and material received from the public, as well as documents mentioned in this Notice as being available in the docket, will become part of the docket and will be available for inspection or copying at room W12-140 on the West Building Ground Floor, 1200 New Jersey Avenue SE., Washington, DC, between 9 a.m. and 5 p.m., Monday through Friday, except Federal holidays. You may also find the docket on the Internet at http://www.regulations.gov.

A copy of the ICR is available through the docket on the Internet at http://www.regulations.gov. Additionally, copies are available from: Commandant (CG-612), ATTN: Paperwork Reduction Act Manager, U.S. Coast Guard, 2100 2nd Street SW., STOP 7101, Washington, DC 20593-7101.

FOR FURTHER INFORMATION CONTACT: Contact Lieutenant Commander Christopher Gagnon, Domestic Vessels Division, U.S. Coast Guard at cg-cvc-1@uscg.mil, for questions on this document. Contact Ms. Barbara Hairston, Program Manager, Docket Operations, 202-366-9826, for questions on the docket.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. These comments will help OIRA determine whether to approve the ICR referred to in this Notice.

We encourage you to respond to this request by submitting comments and related materials. Comments to Coast Guard or OIRA must contain the OMB Control Number of the ICR. They must also contain the docket number of this request, [USCG-2012-1066], and must be received by June 27, 2013. We will post all comments received, without change, to http://www.regulations.gov. They will include any personal information you provide. We have an agreement with DOT to use their DMF. Please see “Privacy Act” paragraph below.

Submitting Comments

If you submit a comment, please include the docket number [USCG-2012-1066], indicate the specific section of the document to which each comment applies, providing a reason for each comment. You may submit your comments and material online (via http://www.regulations.gov), by fax, mail, or hand delivery, but please use only one of these means. If you submit a comment online via www.regulations.gov, it will be considered received by the Coast Guard when you successfully transmit the comment. If you fax, hand deliver, or mail your comment, it will be considered as having been received by the Coast Guard when it is received at the DMF. We recommend you include your name, mailing address, an email address, or other contact information in the body of your document so that we can contact you if we have questions regarding your submission.

You may submit comments and material by electronic means, mail, fax, or delivery to the DMF at the address under ADDRESSES, but please submit them by only one means. To submit your comment online, go to http://www.regulations.gov, and type USCG-2012-1066 in the Search box, then click on the “Open Docket Folder” option. If you submit your comments by mail or hand delivery, submit them in an unbound format, no larger than 8½ by 11 inches, suitable for copying and electronic filing. If you submit comments by mail and would like to know that they reached the Facility, please enclose a stamped, self-addressed postcard or envelope. We will consider all comments and material received during the comment period and will address them accordingly.

Viewing Comments and Documents

To view the comments go to http://www.regulations.gov, insert USCG-2012-1066 in the Search box, then click on the “Open Docket Folder” option. If you do not have access to the internet, you may view the docket by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

OIRA posts its decisions on ICRs online at http://www.reginfo.gov/public/do/PRAMain after the comment period for each ICR. An OMB Notice of Action on each ICR will become available via a hyperlink in the OMB Control Number: 1625-new.

Privacy Act

Anyone can search the electronic form of comments received in dockets by the name of the individual submitting the comment (or signing the comment, if submitted on behalf of an association, business, labor union, etc.). You may review a Privacy Act statement regarding Coast Guard public dockets in the January 17, 2008, issue of the Federal Register (73 FR 3316).

Previous Request for Comments

This request provides a 30-day comment period required by OIRA. The Coast Guard has published the 60-day Notice (78 FR 9709; February 11, 2013) required by 44 U.S.C. 3506(c)(2). That Notice elicited no COI-related comments. Accordingly, no changes have been made to the collection. The above 60-day Notice also sought comments on a draft Maritime Labour Convention (MLC) Navigation and Vessel Inspection Circular (NVIC). The Coast Guard will publish a separate Notice in the Federal Register to addresses how we responded to the MLC NVIC-related comments.

Information Collection Request

Title: Various International Agreement Certificates and Documents.

OMB Control Number: 1625-new.

Summary: This information collection is associated with the Maritime Labour Convention, 2006. The Coast Guard plans to establish a voluntary inspection program for vessels wishing to document compliance with the requirements of the Convention. U.S. commercial vessels that operate on international routes will be eligible to participate.

Need: The information is needed to determine if a vessel is in compliance with the Convention.

Forms: CG-16450, MLC Statement of Voluntary Compliance; CG-16450A, Interim MLC Statement of Voluntary Compliance; CG-16450B, Declaration of MLC Part I Statement of Voluntary Compliance; CG-16450C, MLC Inspection Report

Respondents: Vessel owners and operators.

Frequency: On occasion. We estimate two responses per respondent, one for the Convention application and one for the recordkeeping of Coast Guard-issued documents.

Hour Burden Estimate: The estimated burden of this new collection is 4,150 hours a year.

Authority: The Paperwork Reduction Act of 1995; 44 U.S.C. Chapter 35, as amended.

Dated: May 21, 2013.
Paul F. Thomas,
Captain, U.S. Coast Guard, Director of Inspections & Compliance.

[FR Doc. 2013-12544 Filed 5-24-13; 8:45 am]

BILLING CODE 9110-04-P